DEPARTMENT OF EDUCATION

National Advisory Committee on Institutional Quality and Integrity, Office of Postsecondary Education; Meeting

AGENCY: National Advisory Committee on Institutional Quality and Integrity, Office of Postsecondary Education, U.S. Department of Education.

ACTION: Notice of December 14-16, 2011 open meeting of the National Advisory Committee on Institutional Quality and Integrity and an invitation to make third-party written comments concerning agencies scheduled for review.

ADDRESSES: U. S. Department of Education, Office of Postsecondary Education, 1990 K Street, NW., Room 8060, Washington, DC 20006.

SUMMARY: This meeting notice sets forth the agenda of the upcoming December 14-16, 2011 open meeting of the National Advisory Committee on Institutional Quality and Integrity (NACIQI) and informs the public of its opportunity to attend the meeting. It also invites the public to submit third-party written comments concerning agencies scheduled for review. The notice of this meeting is required under Section 10(a)(2) of the Federal Advisory Committee Act (FACA) and Section 114(d)(1)(B) of the Higher Education Act of 1965 (HEA), as amended.

Meeting Date and Place: The NACIQI meeting will be held on December 14-16, 2011, at the Crowne Plaza Old Town Alexandria, 901 North Fairfax, Alexandria, Virginia, from 8:00 a.m., to approximately 5:30 p.m., except for December 16, 2011, when it is anticipated that the meeting will end mid-afternoon.

NACIQI's Statutory Authority and Function: The NACIQI is established under Section 114 of the HEA, as amended, 20 U.S.C. 1011c. The NACIQI advises the Secretary of Education about:

The establishment and enforcement of the Criteria for Recognition of accrediting agencies or associations under Subpart 2, Part H, Title IV, HEA, as amended;

The recognition of specific accrediting agencies or associations, or a specific State approval agency;

The preparation and publication of the list of nationally recognized accrediting agencies and associations;

The eligibility and certification process for institutions of higher education under Title IV, HEA;

The relationship between: (1) Accreditation of institutions of higher education and the certification and eligibility of such institutions, and (2) State licensing responsibilities with respect to such institutions; and,

Any other advisory functions relating to accreditation and institutional eligibility that the Secretary may prescribe.

Agenda: The December 14-16, 2011 NACIQI meeting will consist of two different parts. The first part of the meeting will involve the review of specific accrediting agencies, State agencies for the approval of nursing education, and State agencies for the approval of public postsecondary vocational education. The second part will involve review of the report to the Secretary of the U.S. Department of Education containing the NACIQI's recommendations concerning the reauthorization of the HEA.

Below is a list of agencies scheduled for review during the December 14-16 NACIQI meeting.

Petition for Initial Recognition

State Approval Agency for Nursing Education

1. Mississippi Institutions of Higher Learning, Board of Trustees of State Institutions of Higher Education.

Petitions for Renewal of Recognition

Accrediting Agencies

1. American Podiatric Medical Association, Council on Podiatric Medical Education.

2. The Council on Chiropractic Education, Commission on Accreditation.

3. Commission on English Language Program Accreditation.

4. Joint Review Committee on Education in Radiologic Technology.

5. North Central Association Commission on Accreditation and School Improvement, Board of Trustees.

State Approval Agencies for Nursing Education

1. Kansas State Board of Nursing.

2. Maryland State Board of Nursing.

3. New York State Board of Regents, State Education Department, Office of the Professions (Nursing Education).

State Approval Agencies for Postsecondary Education Vocational Education

1. New York State Board of Regents, State Education Department, Office of the Professions (Public Postsecondary Vocational Education, Practical Nursing).

2. Pennsylvania State Board for Vocational Education, Bureau of Career and Technology Education.

Petitions for Renewal of Recognition and Expansion of Scope To Include Distance Education

Accrediting Agency

1. American Association for Marriage and Family Therapy, Commission on Accreditation for Marriage and Family Therapy Education.

State Approval Agency for Postsecondary Education Vocational Education

1. Oklahoma Board of Career and Technology Education.

Compliance Reports

Accrediting Agencies

1. American Optometric Education, Accreditation Council on Optometric Education.

2. Western Association of Schools and Colleges, Accrediting Commission for Community and Junior Colleges.

Submission of Written Comments Concerning Agencies Scheduled for Review: Submit your written comments by e-mail, no later than thirty days after the date of publication, to the Accreditation Group Records Manager at aslrecordsmanager@ed.gov, with the subject line “Written Comments re (agency name).” Do not send material directly to NACIQI members.

In all instances, your comments about an agency's initial recognition or the renewal of recognition must relate to whether the agency meets the Criteria for Recognition. In addition, your comments for any agency whose compliance report is scheduled for review must relate to the issues raised and the Criteria for Recognition cited in the Secretary's letter that requested the report. Third parties having concerns about agencies regarding matters outside the scope of the petition should report those concerns to Department staff.

Only material submitted by the deadline to the e-mail address listed in this notice, and in accordance with these instructions, become part of the official record concerning agencies scheduled for review and are considered by the Department and the NACIQI in their deliberations.

This notice announces the only opportunity you will have to submit written comments concerning the agencies scheduled for this meeting. There will be another Federal Register notice concerning the opportunity to make written comments about the NACIQI's report to the Secretary concerning recommendations on the reauthorization of the HEA.

Requests to Make Oral Comments: There will be another notice that will invite the public to submit requests to make oral presentations before the NACIQI concerning the agencies scheduled for review. That notice will explain the methods the public may use to request to make oral presentations and provide the instructions for each method. A separate Federal Register notice will invite the public to make oral presentations concerning the NACIQI's report on the reauthorization of the HEA.

Access to Records of the Meeting: The Department will record the meeting and post the official report of the meeting on the NACIQI Web site. Pursuant to the FACA, the public may also inspect the materials at 1990 K Street, NW., Washington, DC, by e-mailing aslrecordsmanager@ed.gov, or by calling 202-219-7067 to schedule an appointment.

Reasonable Accommodations: Individuals who will need accommodations for a disability in order to attend the December 14-16, 2011 meeting (i.e., interpreter services, assistive listening devices, and/or materials in alternative format) should contact Department staff at 202-219-7011; or, e-mail aslrecordsmanager@ed.gov, no later than November 17, 2011. We will attempt to meet requests after this date, but we cannot guarantee the availability of the requested accommodation. The meeting site will be accessible.

For Additional Information: Contact Melissa Lewis, NACIQI Executive Director, U.S. Department of Education, Room 8060, 1990 K Street, NW., Washington, DC 20006; telephone: 202-219-7009; e-mail: Melissa.Lewis@ed.gov. Individuals who use a telecommunications device for the deaf (TDD) may call the Federal Information Relay Service at 1-800-877-8339 between 8:00 a.m. and 5:00 p.m., Eastern Standard Time, Monday through Friday.

Electronic Access to This Document: The official version of this document is the document published in the Federal Register. Free Internet access to the official edition of the Federal Register and the Code of Federal Regulations is available via the Federal Digital System at: http://www.gpo.gov/fdsys. At this site, you can view this document, as well as all other documents of the Department published in the Federal Register, in text or Adobe Portable Document Format (PDF). To use PDF, you must have Adobe Acrobat Reader, which is available free at this site.

You may also access documents of the Department published in the Federal Register by using the article search feature at http://www.federalregister.gov. Specifically, through the advanced search feature at this site, you can limit your search to documents published by the Department.

Eduardo M. Ochoa,
Assistant Secretary for Postsecondary Education.

[FR Doc. 2011-20947 Filed 8-16-11; 8:45 am]

BILLING CODE P